DEPARTMENT OF TRANSPORTATION

Coast Guard

33 CFR Part 117

[CGD05-01-007]

RIN 2115-AE47

Drawbridge Operation Regulations; New Jersey Intracoastal Waterway, Cape May Canal

AGENCY: Coast Guard, DOT.

ACTION: Notice of proposed rulemaking.

SUMMARY: The Coast Guard proposes a change to the regulations governing the operation of the Cape May Canal Railroad Bridge at the New Jersey Intracoastal Waterway (ICW), mile 115.1, across Cape May Canal, in Cape May, New Jersey. This proposal would maintain the bridge in the open position, except that it would close for the crossing of trains and the maintenance of the bridge. The proposed change will provide for the reasonable needs of navigation.

DATES: Comments must reach the Coast Guard on or before May 29, 2001.

ADDRESSES: You may mail comments and related material to the Commander (Aowb), Fifth Coast Guard District, Federal Building, 4th Floor, 431 Crawford Street, Portsmouth, Virginia 23704-5004, or they may be hand-delivered to the same address between 8 a.m. and 4:30 p.m., Monday through Friday, except Federal holidays. Commander (Aowb), Fifth Coast Guard District maintains the public docket for this rulemaking. Comments and documents received from the public, as well as documents indicated in this preamble as being available in this docket, will become part of this docket and will be available for inspection and copying at the above address.

FOR FURTHER INFORMATION CONTACT: Ann Deaton, Bridge Administrator, Fifth Coast Guard District, (757) 398-6222.

SUPPLEMENTARY INFORMATION:

Request for Comments

We encourage you to participate in this rulemaking by submitting related material. If you do so, please include your name and address, identify this rulemaking (CGD05-01-007), indicate the specific section of this document to which each comment applies, and give the reason for each comment. Please submit all comments and related material in an unbound format, no larger than 8½ by 11 inches, suitable for copying. If you would like to know it reached us, please enclose a stamped, self-addressed postcard or envelope. We will consider all comments and material received during the comment period. We may change this proposed rule in view of them.

Public Meeting

We do not now plan to hold a public hearing. But you may submit a request for a meeting by writing to Commander (Aowb), Fifth Coast Guard District at the address under ADDRESSES explaining why one would be beneficial. If we determine that one would aid this rulemaking, we will hold one at a time and place announced by a later notice in the Federal Register.

Background and Purpose

The Cape May Canal Railroad Bridge is a swing bridge owned by New Jersey Transit Rail Operations (NJTRO). Under an agreement with NJTRO and Cape May Seashore Lines, Inc. (CMSL), CMSL is responsible for the reactivation of the rail service, maintenance of the accessories of the bridge and its operation of the swing span. From 1983 until June 1999, train service was deactivated and bridge tender service discontinued. The swing span was placed in the full open position for vessels in accordance with 33 CFR 117.41. Upon reactivation of bridge tender service in 1999, the draw was required to return to opening on signal at all times. This requirement is included in the general operation regulations at 33 CFR 117.5.

CMSL is currently providing passenger rail service on the 27-mile long rail lines between Tuckahoe and Cape May, New Jersey. There is no train service in the winter so the bridge is unmanned and placed in the full open position. Tourist train service is provided on weekends only in the spring and fall and seven days a week from mid-June until Labor Day. Train service starts at 10 a.m. and ends at 7:30 p.m. After train hours, the bridge is unmanned and placed in the full open position. During train service hours, the bridge is kept in the full open position for vessels and closes only when a train is scheduled to cross.

This proposal formalizes the current operation of the bridge. The proposed regulations will have less impact on navigation than the general operating regulations.

Discussion of Proposal

The Coast Guard proposes to regulate the Cape May Canal Railroad Bridge, ICW mile 115.1, which currently requires the bridge to open on signal. The Coast Guard proposes to insert this new specific regulation at 33 CFR 117.733(k). The regulation would require the draw to be maintained in the open position, except the draw may close for the crossing of trains and maintenance of the bridge. When the draw is closed, for a train crossing or maintenance, a bridge tender shall be present to open the draw. In addition, any delay in opening of the draw shall not exceed ten minutes except as provided in § 117.31(b).

Regulatory Evaluation

This proposed rule is not a significant regulatory action under section 3(f) of Executive Order 12866 and does not require an assessment of potential costs and benefits under section 6(a)(3) of that Order. The Office of Management and Budget has not reviewed it under that Order. It is not significant under the regulatory policies and procedures of the Department of Transportation (DOT) (44 FR 11040; February 26, 1979).

We expect the economic impact of this proposed rule to be so minimal that a full Regulatory Evaluation under paragraph 10e of the regulatory policies and procedures of DOT is unnecessary.

We reached this conclusion based on the determination that the proposed regulation will provide for greater flow of vessel traffic than the general requirements for the use and operation of drawbridges. Under the general requirements the drawbridge is required to open promptly upon signal. This permits the bridge to remain closed and open only after a proper signal. The proposed regulation will require the bridge to remain in the open position, permitting vessels to pass freely. The bridge will close only for train crossings and bridge maintenance. This regulation will provide for the reasonable needs of navigation, while reducing the burden on the bridge operator.

Small Entities

Under the Regulatory Flexibility Act (5 U.S.C. 601-612), we considered whether this proposed rule would have a significant economic impact on a substantial number of small entities. The term “small entities” comprises small businesses, not-for-profit organizations that are independently owned and operated and are not dominant in their fields and governmental jurisdictions with populations of less than 50,000. The Coast Guard certifies under 5 U.S.C. 605(b) that this proposed rule would not have a significant economic impact on a substantial number of small entities.

This proposed rule would affect the following entities, some of which might be small entities: the owners and operators of vessels that desire to transit the waterway and homeowners associations representing property owners upstream of the drawbridge.

This proposed rule would not have a significant economic impact on a substantial number of small entities for the following reasons. The proposed rule will provide for the bridge to remain in the open position, allowing the free flow of vessel traffic. The bridge will close only for the passage of trains and maintenance of the bridge. This proposed regulation will provide for the reasonable needs of navigation.

If you think that your business, organization or governmental jurisdiction qualifies as a small entity and that this rule would have a significant economic impact on it, please submit a comment (see ADDRESSES) explaining why you think it qualifies and in what way and to what degree this proposed rule will economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact Ann Deaton, Bridge Administrator, Fifth Coast Guard District, (757) 398-6222.

Collection of Information

This proposed rule would call for no new collection of information under the Paperwork Reduction Act of 1995 (44 U.S.C. 3501-3520).

Federalism

We have analyzed this proposed rule under Executive Order 13132 and have determined that this proposed regulation does not have implications for federalism under that order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government having first provided the funds to pay those costs. The proposed rule would not impose an unfunded mandate.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and does not concern an environmental risk to health or risk to safety that may disproportionately affect children.

Environment

We considered the environmental impact of this proposal and concluded that under figure 2-1, paragraph (32)(e) of Commandant Instruction M16475.1C this proposed rule is categorically excluded from further environmental documentation. This proposed rule only involves the operating schedule of an existing drawbridge and will have no impact on the environment. A “Categorical Exclusion Determination” is available in the docket where indicated under ADDRESSES.

List of Subjects in 33 CFR Part 117

Bridges.

For the reasons discussed in the preamble, the Coast Guard proposes to amend 33 CFR part 117 as follows:

PART 117—DRAWBRIDGE OPERATION REGULATIONS

1. The authority citation for Part 117 continues to read as follows:

Authority: 33 U.S.C. 499; 49 CFR 1.46; 33 CFR 1.05-1(g); Section 117.255 also issued under authority of Pub.L. 102-587, 106 Stat. 5039.

2. In § 117.733 add a new paragraph (k) to read as follows:

§ 117.733 New Jersey Intracoastal Waterway.

* * * * *

(k) The draw of Cape May Canal Railroad Bridge across Cape May Canal, mile 115.1, at Cape May shall operate as follows:

(1) The draw shall be maintained in the open position; the draw may close only for the crossing of trains and maintenance of the bridge. When the draw is closed for a train crossing a bridge tender shall be present to open the draw after the train has cleared the bridge. When the draw is closed for maintenance a bridge tender shall be present to open the draw upon signal.

(2) Train service generally operates as follows (please contact Cape May Seashore Lines for current train schedules):

(i) Winter (generally December through March): In general, there is no train service, therefore the bridge is unmanned and placed in the full open position.

(ii) Spring (generally April through May) and Fall (generally September through November): Generally weekend service only. Friday through Sunday train service starts at 10 a.m. and ends at 7:30 pm. Monday through Thursday the bridge is generally unmanned and placed in the open position.

(iii) Summer Service (generally June through August): Daily train service starting at 10 a.m. and ending at 7:30 p.m.

(3) When a vessel approaches the drawbridge with the draw in the open position, the vessel shall give the opening signal. If no acknowledgement is received within 30 seconds, the vessel may proceed, with caution, through the open draw. When the draw is open and will be closing promptly, the drawbridge will generally signal using sound signals or radio telephone.

(4) Opening of the draw span may be delayed for ten minutes after a signal to open except as provided in § 117.31(b). However, if a train is moving toward the bridge and has crossed the home signal for the bridge before the signal requesting opening of the bridge is given, the train may continue across the bridge and must clear the bridge interlocks as soon as possible in order to prevent unnecessary delays in the opening of the draw.

Dated: March 22, 2001.
J.E. Shkor,
Vice Admiral, U.S. Coast Guard, Commander, Fifth Coast Guard District.

[FR Doc. 01-7947 Filed 3-29-01; 8:45 am]

BILLING CODE 4910-15-U